INTERNATIONAL TRADE COMMISSION

[Investigation No. 337-TA-696]

In the Matter of Certain Restraining Systems for Transport, Components Thereof, and Methods of Using Same; Notice of Commission Determination Not To Review an Initial Determination Granting Respondent's Second Amended Motion To Terminate the Investigation in Its Entirety Based on a Consent Order Stipulation and To Issue a Consent Order; Termination of the Investigation

AGENCY: International Trade Commission.

ACTION: Notice.

SUMMARY: Notice is hereby given that the U.S. International Trade Commission has determined not to review the presiding administrative law judge's (“ALJ”) initial determination (“ID”) (Order No. 6) granting respondent's second amended motion to terminate the investigation in its entirety based on a consent order stipulation and to issue a consent order.

FOR FURTHER INFORMATION CONTACT: Jia Chen, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on December 29, 2009, based on a complaint filed by Matthew Bullock and Walnut Industries, Inc. 74 FR 68865 (Dec. 29, 2009). The complaint alleges violations of section 337 of the Tariff Act of 1930 (19 U.S.C. 1337) in the importation into the United States, the sale for importation, and the sale within the United States after importation of certain restraining systems for transport, components thereof, and methods of using the same by reason of infringement of certain claims of United States Patent Nos. 6,089,802, 6,227,779, and 6,981,827. The complaint named Qingdao Auront Industry & Trade Co. Ltd. (“Auront”) as the sole respondent.

On March 16, 2010, Auront filed a motion to terminate the investigation based on a consent order stipulation. The Commission investigative attorney (“IA”) opposed the motion to terminate because Auront did not satisfy the Commission Rules. On April 5, 2010, Auront filed a second motion to terminate based on a revised consent order. On April 14, 2010, Auront filed an amendment to its second motion with additional revisions to the consent order stipulation. On April 20, 2010, complainants filed an opposition to Auront's motions. On the same day, the IA filed a response in support of termination.

On April 21, 2010, the ALJ issued an initial determination (“ID”) granting Auront's second amended motion to terminate the investigation. The ALJ found that the motion complied with the requirements of Commission Rule 210.21 (19 CFR 210.21). The ALJ also concluded that, pursuant to Commission Rule 210.50(b)(2) (19 CFR 210.50(b)(2)), there is no evidence that termination of this investigation will prejudice the public interest. Accordingly, the ALJ terminated the investigation. No petitions for review of this ID were filed. The Commission has determined not to review the ALJ's ID terminating the investigation and to issue the consent order submitted by Auront.

The authority for the Commission's determination is contained in section 337 of the Tariff Act of 1930, as amended (19 U.S.C. 1337), and in § 210.45 of the Commission's Rules of Practice and Procedure (19 CFR 210.45).

By order of the Commission.
Issued: May 17, 2010.
Marilyn R. Abbott,
Secretary to the Commission.

[FR Doc. 2010-12266 Filed 5-20-10; 8:45 am]

BILLING CODE 7020-02-P